FEDERAL ENERGY REGULATORY COMMISSION

[Docket No. IC04-549B-001, FERC-549B]

Commission Information Collection Activities, Proposed Collection; Comment Request; Submitted for OMB Review

August 23, 2004.

AGENCY: Federal Energy Regulatory Commission.

ACTION: Notice.

SUMMARY: In compliance with the requirements of Section 3507 of the Paperwork Reduction Act of 1995, 44 U.S.C. 3507, the Federal Energy Regulatory Commission (Commission) has submitted the information collection described below to the Office of Management and Budget (OMB) for review and reinstatement of this information collection requirement. Any interested person may file comments directly with OMB and should address a copy of those comments to the Commission as explained below. The Commission did not receive any comments in response to an earlier Federal Register notice of April 1, 2004 (69 FR 17135) and has made this notation in its submission to OMB.

DATES: Comments on the collection of information are due by September 30, 2004.

ADDRESSES: Address comments on the collection of information to the Office of Management and Budget, Office of Information and Regulatory Affairs, Attention: Federal Energy Regulatory Commission Desk Officer. Comments to OMB should be filed electronically, c/o PamelaL.Beverly@omb.eop.gov and include the OMB Control No. as a point of reference. The Desk Officer may be reached by telephone at (202) 395-7856. A copy of the comments should also be sent to the Federal Energy Regulatory Commission, Office of the Executive Director, ED-30, Attention: Michael Miller, 888 First Street NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC04-549B-001.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's e-mail address upon receipt of comments. User assistance for electronic filings is available at (202) 502-8258 or by e-mail to efiling@ferc.gov. Comments should not be submitted to the e-mail address.

All comments are available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-549B “Gas Pipeline Rates: Capacity Information.”

2. Sponsor: Federal Energy Regulatory Commission.

3. Control No.: 1902-0169.

The Commission is now requesting that OMB approve and reinstate with a three-year extension of the expiration date, with no changes to the existing collection. The information filed with the Commission is mandatory.

4. Necessity of the Collection of Information: Submission of the information is necessary to enable the Commission to carry out its responsibilities in implementing the statutory provisions of Sections 4, 5, and 16 of the Natural Gas Act, 15 U.S.C. 717c-717o, PL 75-688, 52 Stat. 822 and 830) and Title III of the Natural Gas Policy Act, 15 U.S.C. 3301-3432, PL 95-621. FERC-549B contains both the Index of Customers and the Capacity Report under Part 284 of the Commission's regulations.

In Order No. 636, the Commission established a capacity release mechanism under which shippers can release firm transportation and storage capacity on either a short or long term basis to other shippers wanting to obtain capacity. In Order No. 636-A, the Commission determined that the efficiency of the capacity release mechanism would be enhanced by standardizing both the content of the capacity release information and the methods by which shippers access that information.

In Order No. 637, the Commission amended its regulations in response to the growing development of more competitive markets for natural gas. In the final rule, the Commission revised its current regulatory framework to improve the efficiency of the market and provide captive customers with the opportunity to reduce their cost of holding long-term capacity while continuing to protect against the exercise of market power.

To create greater substitution between different forms of capacity and enhance competition across the pipeline grid, Order No. 637 also revised the regulations regarding the following: scheduling; segmentation and flexible rights; penalties; and reporting requirements. The Commission revised pipeline scheduling procedures so that capacity release transactions will be better coordinated with the nomination process. Pipelines are required to permit shippers to segment capacity whenever feasible, which increases potential capacity alternatives and helps to facilitate the development of market centers. The changes to the reporting requirements were to provide greater reliability about capacity availability and price data so shippers could make informed decisions in a competitive market as well as improve shippers' and the Commission's availability to monitor marketplace behavior to detect, and remedy anticompetitive behavior.

In Order No. 582, the Commission created the Index of Customers filing requirement. Pipelines are required to identify all firm transportation services and contract demand for each customer for each rate schedule. The Pipeline must file on the first business day of each calendar quarter and also post the information on their Internet web sites. These filings include the following data elements: shipper's name (full legal name); contract identifier; rate schedule; contract start date; contract end date; contract quantity; receipt points; delivery points; information on capacity held by rate zones to permit verification of reservation billing determinants; data to assess storage capacity and conjunction restrictions if any, (provisions that operate across multiple points or contracts and may limit a shipper's rights at a particular receipt or delivery point). The index contains fundamental data about the natural gas industry—how much of the pipeline's capacity that shippers have under contract. With this information the Commission remains apprised of trends in the industry, the willingness of shippers to hold firm capacity, the average length of time capacity remains under contract, the proportion of capacity rolling over under specific provisions. This information provides the Commission with the ability to analyze capacity held on pipelines and provides capacity information to the market which aids the capacity release system by enabling shippers to locate those holding capacity rights that shippers may want to acquire. The Commission implements these filing requirements in the Code of Regulations (CFR) under 18 CFR Part 284.12 and .13.

5. Respondent Description: The respondent universe currently comprises 100 companies (on average per year) subject to the Commission's jurisdiction.

6. Estimated Burden: 160,789 total hours (includes 1,800 hours for Index of Customers), 100 respondents (average per year), 5.66 responses per respondent (Capacity reports) and 6 responses per respondent (Index of Customers), and 280.9 hours (capacity reports) 3 hours (Index of Customers) per response (average).

7. Estimated Cost Burden to Respondents: 160,789 hours / 2080 hours per years × $107,185 per year = $8,285,679. The cost per respondent is equal to $82,857.

Statutory Authority

Sections 4, 5, and 16 of the Natural Gas Act, 15 U.S.C.717c-717o , Pub. L. 75-688, 52 Stat. 822 and 830) and Title III of the Natural Gas Policy Act, 15 U.S.C. 3301-3432, Pub. L. 95-621.

Magalie R. Salas,
Secretary.

[FR Doc. E4-1959 Filed 8-27-04; 8:45 am]

BILLING CODE 6717-01-P